DEPARTMENT OF TRANSPORTATION

Maritime Administration

[Docket Number MARAD-2022-0119]

Request for Comments on the Renewal of a Previously Approved Information Collection: Mariner Cadet Training-Agreements, Compliance Reporting, and Audits

AGENCY: Maritime Administration, DOT.

ACTION: Notice and request for comments.

SUMMARY: The Maritime Administration (MARAD) invites public comments on our intention to request the Office of Management and Budget (OMB) approval for a currently approved emergency information collection. Before a Federal agency can collect certain information from the public, it must receive approval from OMB. Under procedures established by the Paperwork Reduction Act of 1995, before seeking OMB approval, Federal agencies must solicit public comment on proposed collection of information, including extensions and reinstatements of previously approved collections. A Federal Register Notice with a 60-day comment period soliciting comments on the following information collection was published on April 29, 2022. This document described a collection of information for which MARAD intends to seek OMB approval.

ADDRESSES: You may submit comments identified by DOT Docket Number MARAD-2022-0119 by any one of the following methods:

• Federal eRulemaking Portal: Go to http://www.regulations.gov. Search MARAD-2022-0119 and follow the instructions for submitting comments.

• Fax: 1-202-493-2251.

• Mail or Hand Delivery: The Docket Management Facility is in the West Building, Ground Floor of the U.S. Department of Transportation. The Docket Management Facility location address is: U.S. Department of Transportation, MARAD-2022-0119, 1200 New Jersey Avenue SE, West Building, Room W12-140, Washington, DC 20590, between 9 a.m. and 5 p.m., Monday through Friday, except on Federal holidays.

Instructions: All submissions must include the agency name and docket number for this rulemaking.

Note: All comments received will be posted without change to www.regulations.gov including any personal information provided.

Comments are invited on: (a) whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

Electronic Access and Filing

A copy of the notice may be viewed online at www.regulations.gov using the docket number listed above. A copy of this notice will be placed in the docket. Electronic retrieval help and guidelines are available on the website. It is available 24 hours each day, 365 days each year. An electronic copy of this document may also be downloaded from the Office of the Federal Register's website at www.FederalRegister.gov and the Government Publishing Office's website at www.GovInfo.gov.

FOR FURTHER INFORMATION CONTACT: Chris Wahler, Director of Maritime Labor and Training, (202) 366-5469 or via email at EMBARC@dot.gov.

SUPPLEMENTARY INFORMATION:

Title: Mariner Cadet Training-Agreements, Compliance Reporting, and Audits.

OMB Control Number: 2133-0553.

Type of Request: Renewal of a Previously Approved Information Collection.

Abstract: In accordance with its delegation of authority at 49 CFR 1.93(a), and pursuant to 46 U.S.C. 50101(a)(4), the Maritime Administration (MARAD) is charged with ensuring that the United States Merchant Marine is manned with trained and efficient citizen personnel. Furthermore, 46 U.S.C. 51322 requires MARAD to protect cadet mariners from sexual assault onboard vessels and in so doing, to set sexual assault policy and to conduct random and targeted unannounced checks of commercial vessels.

MARAD needs to obtain information from commercial vessel operators in order to meet its statutory objective of setting sexual assault policy and monitoring compliance that is essential to meeting its mission of ensuring a well-trained U.S. Merchant Marine.

The Maritime Administration (MARAD) requests comment on MARAD's intention to seek approval from OMB to reinstate without modification a previously approved collection of information concerning vessel operator acceptance of MARAD safety and security tenets, compliance reporting and compliance assessment requirements. MARAD, in consultation with operators of commercial vessels of the United States, established criteria that vessel operators must meet in order to participate in the Sea Year program of the United States Merchant Marine Academy (USMMA) that address sexual harassment, sexual assault, and other inappropriate conduct; and a process for verifying compliance with the criteria. Accordingly, on December 15, 2021, MARAD published on its website agency guidance entitled Every Mariner Builds a Respectful Culture (EMBARC). Embedded within EMBARC is a process that MARAD will use to verify compliance. The EMBARC Standards enumerate new sexual assault and sexual harassment (SASH) prevention and response safety measures that MARAD requires commercial vessel operators to meet before they are approved to carry cadets from the USMMA for training purposes. Along with the EMBARC Standards, MARAD also published a self-assessment checklist, and a statement of compliance that vessel operators are required to submit prior to Sea Year participation. The EMBARC Standards include immediate, intermediate and long-term action items that all vessel operators providing training platforms for cadet mariners should implement. The totality of these efforts will help strengthen the maritime industry's efforts to prevent and respond to incidents of sexual violence and sexual harassment and other forms of misconduct and help ensure a safer training environment for all cadets.

The information to be collected will be used by MARAD to confirm the acceptance of MARAD sexual assault policies by commercial vessel operators and it will help establish a process to oversee and monitor continued compliance through reporting and auditing of commercial vessel operators in this initial enrollment and subsequent Sea Years.

Respondents: Vessel Owners and Operators.

Affected Public: Captains, Mates, Chief Operating Officers, Chief Executive Officers, Operations Managers, Clerical and typists.

Estimated Number of Respondents: 35 per collection.*

Estimated Number of Responses: 428.

Estimated Hours per Response: 2-6.

Annual Estimated Total Annual Burden Hours: 1,615.

Frequency of Response: 2 per year.

* Some respondents will have to respond more than once.

(Authority: The Paperwork Reduction Act of 1995; 44 U.S.C. chapter 35, as amended; and 49 CFR 1.93.)

By Order of the Maritime Administrator.
T. Mitchell Hudson, Jr.,
Secretary, Maritime Administration.

[FR Doc. 2022-13890 Filed 6-28-22; 8:45 am]

BILLING CODE 4910-81-P